DEPARTMENT OF HOMELAND SECURITY

Federal Emergency Management Agency

[Docket ID FEMA-2020-0002]

Changes in Flood Hazard Determinations

AGENCY: Federal Emergency Management Agency, DHS.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Department of Homeland Security, Federal Emergency Management Agency.

State and county | Location and case No. | Chief executive officer of community | Community map repository | Date of modification | Community No.
Colorado:
Douglas (FEMA Docket No.: B-1958). | Town of Castle Rock (18-08-1226P). | The Honorable Jason Gray, Mayor, Town of Castle Rock, 100 North Wilcox Street, Castle Rock, CO 80104. | Water Department, 175 Kellogg Court, Castle Rock, CO 80109. | Dec. 6, 2019 | 080050
Douglas (FEMA Docket No.: B-1958). | Unincorporated areas of Douglas County (18-08-1226P). | The Honorable Roger A. Partridge, Chairman, Douglas County Board of Commissioners, 100 3rd Street, Castle Rock, CO 80104. | Douglas County Public Works, Engineering Division, 100 3rd Street, Castle Rock, CO 80104. | Dec. 6, 2019 | 080049
El Paso (FEMA Docket No.: B-1958). | Town of Palmer Lake (19-08-0006P). | The Honorable John Cressman, Mayor, Town of Palmer Lake, P.O. Box 208, Palmer Lake, CO 80133. | Town Hall, 42 Valley Crescent Street, Palmer Lake, CO 80133. | Dec. 17, 2019 | 080065
Jefferson (FEMA Docket No.: B-1967). | City of Arvada (19-08-0295P). | The Honorable Marc Williams, Mayor, City of Arvada, 8101 Ralston Road, Arvada, CO 80002. | Engineering Department, 8101 Ralston Road, Arvada, CO 80002. | Dec. 20, 2019 | 085072
Jefferson (FEMA Docket No.: B-1967). | Unincorporated areas of Jefferson County (19-08-0295P). | The Honorable Libby Szabo, Chair, Jefferson County Board of Commissioners, 100 Jefferson County Parkway, Suite 5550, Golden, CO 80419. | Jefferson County Department of Planning and Zoning, 100 Jefferson County Parkway, Suite 3550, Golden, CO 80419. | Dec. 20, 2019 | 080087
Jefferson (FEMA Docket No.: B-1958). | Unincorporated areas of Jefferson County (19-08-0696P). | The Honorable Libby Szabo, Chair, Jefferson County Board of Commissioners, 100 Jefferson County Parkway, Suite 5550, Golden, CO 80419. | Jefferson County Department of Planning and Zoning, 100 Jefferson County Parkway, Suite 3550, Golden, CO 80419. | Dec. 6, 2019 | 080087
Pueblo (FEMA Docket No.: B-1958). | City of Pueblo, (19-08-0224P). | The Honorable Nicholas A. Gradisar, Mayor, City of Pueblo, 1 City Hall Place, Pueblo, CO 81003. | Public Works Department, 211 East D Street, Pueblo, CO 81003. | Dec. 9, 2019 | 085077
Pueblo (FEMA Docket No.: B-1958). | City of Pueblo (19-08-0225P). | The Honorable Nicholas A. Gradisar, Mayor, City of Pueblo, 1 City Hall Place, Pueblo, CO 81003. | Public Works Department, 211 East D Street, Pueblo, CO 81003. | Dec. 2, 2019 | 085077
Pueblo (FEMA Docket No.: B-1958). | Unincorporated areas of Pueblo County (19-08-0224P). | The Honorable Garrison Ortiz, Chairman, Pueblo County Board of Commissioners, 215 West 10th Street, Pueblo, CO 81003. | Pueblo County Planning and Development Department, 229 West 12th Street, Pueblo, CO 81003. | Dec. 9, 2019 | 080147
Pueblo (FEMA Docket No.: B-1958). | Unincorporated areas of Pueblo County (19-08-0225P). | The Honorable Garrison Ortiz, Chairman, Pueblo County Board of Commissioners, 215 West 10th Street, Pueblo, CO 81003. | Pueblo County Planning and Development Department, 229 West 12th Street, Pueblo, CO 81003. | Dec. 2, 2019 | 080147
Florida:
Bay (FEMA Docket No.: B-1967). | Unincorporated areas of Bay County (19-04-0600P). | The Honorable Philip Griffitts, Jr., Chairman, Bay County Board of Commissioners, 840 West 11th Street, Panama City, FL 32401. | Bay County Government Center, 840 West 11th Street, Panama City, FL 32401. | Dec. 23, 2019 | 120004
Collier (FEMA Docket No.: B-1958). | City of Marco Island (19-04-4090P). | Mr. Mike McNees, Manager, City of Marco Island, 50 Bald Eagle Drive, Marco Island, FL 34145. | Building Services Department, 50 Bald Eagle Drive, Marco Island, FL 34145. | Dec. 9, 2019 | 120426
Collier (FEMA Docket No.: B-1967). | City of Marco Island (19-04-4346P). | Mr. Mike McNees, Manager, City of Marco Island, 50 Bald Eagle Drive, Marco Island, FL 34145. | Building Services Department, 50 Bald Eagle Drive, Marco Island, FL 34145. | Dec. 18, 2019 | 120426
Lee (FEMA Docket No.: B-1967). | Unincorporated areas of Lee County (19-04-4318P). | Mr. Rodger Desjarlais, Lee County Manager, P.O. Box 398, Fort Myers, FL 33902. | Lee County Building Department, 1500 Monroe Street, Fort Myers, FL 33901. | Dec. 16, 2019 | 125124
Monroe (FEMA Docket No.: B-1967). | Unincorporated areas of Monroe County (19-04-2961P). | The Honorable Sylvia Murphy, Mayor, Monroe County Board of Commissioners, 102050 Overseas Highway, Suite 234, Key Largo, FL 33037. | Monroe County Building Department, 2798 Overseas Highway, Suite 300, Marathon, FL 33037. | Dec. 18, 2019 | 125129
Monroe (FEMA Docket No.: B-1958). | Unincorporated areas of Monroe County (19-04-4308P). | The Honorable Sylvia Murphy, Mayor, Monroe County Board of Commissioners, 102050 Overseas Highway, Suite 234, Key Largo, FL 33037. | Monroe County Building Department, 2798 Overseas Highway, Suite 300, Marathon, FL 33050. | Dec. 6, 2019 | 125129
Monroe (FEMA Docket No.: B-1958). | Unincorporated areas of Monroe County (19-04-4321P). | The Honorable Sylvia Murphy, Mayor, Monroe County Board of Commissioners, 102050 Overseas Highway, Suite 234, Key Largo, FL 33037. | Monroe County Building Department, 2798 Overseas Highway, Suite 300, Marathon, FL 33050. | Dec. 9, 2019 | 125129
Monroe (FEMA Docket No.: B-1967). | Unincorporated areas of Monroe County (19-04-4407P). | The Honorable Sylvia Murphy, Mayor, Monroe County Board of Commissioners, 102050 Overseas Highway, Suite 234, Key Largo, FL 33037. | Monroe County Building Department, 2798 Overseas Highway, Suite 300, Marathon, FL 33037. | Dec. 23, 2019 | 125129
Orange (FEMA Docket No.: B-1958). | City of Orlando (19-04-3135P). | The Honorable Buddy Dyer, Mayor, City of Orlando, 400 South Orange Avenue, Orlando, FL 32801. | Public Works Department, Engineering Division, 400 South Orange Avenue, 8th Floor, Orlando, FL 32801. | Dec. 4, 2019 | 120186
Pinellas (FEMA Docket No.: B-1958). | Town of Redington Shores (19-04-5852P). | The Honorable MaryBeth Henderson, Mayor, Town of Redington Shores, 17425 Gulf Boulevard, Redington Shores, FL 33708. | Building Department, 17425 Gulf Boulevard, Redington Shores, FL 33708. | Dec. 9, 2019 | 125141
Sarasota (FEMA Docket No.: B-1958). | City of Sarasota (19-04-4109P). | The Honorable Liz Alpert, Mayor, City of Sarasota, 1565 1st Street, Room 101, Sarasota, FL 34236. | Development Department, 1565 1st Street, Sarasota, FL 34236. | Dec. 6, 2019 | 125150
Sarasota (FEMA Docket No.: B-1958). | Unincorporated areas of Sarasota County (19-04-3511P). | The Honorable Charles D. Hines, Chairman, Sarasota County Board of Commissioners, 1660 Ringling Boulevard, Sarasota, FL 34236. | Sarasota County Planning and Development Services Department, 1001 Sarasota Center Boulevard, Sarasota, FL 34240. | Dec. 11, 2019 | 125144
Louisiana:
Lafayette (FEMA Docket No.: B-1967). | City of Lafayette (19-06-0044P). | The Honorable Joel Robideaux, Mayor-President, Lafayette Consolidated Government, P.O. Box 4017-C, Lafayette, LA 70502. | Department of Development and Planning, 220 West Willow Street Building B, Lafayette, LA 70501. | Dec. 16, 2019 | 220105
Lafayette (FEMA Docket No.: B-1967). | Unincorporated areas of Lafayette Parish (19-06-0044P). | The Honorable Joel Robideaux, Mayor-President, Lafayette Consolidated Government, P.O. Box 4017-C, Lafayette, LA 70502. | Department of Development and Planning, 220 West Willow Street Building B, Lafayette, LA 70501. | Dec. 16, 2019 | 220101
New Mexico:
Bernalillo (FEMA Docket No.: B-1967). | City of Albuquerque (19-06-0661P). | The Honorable Timothy M. Keller, Mayor, City of Albuquerque, P.O. Box 1293, Albuquerque, NM 87103. | Planning Department, 600 2nd Street Northwest, Albuquerque, NM 87102. | Dec. 23, 2019 | 350002
Taos (FEMA Docket No.: B-1970). | Town of Taos (19-06-1165P). | The Honorable Daniel R. Barrone, Mayor, Town of Taos, 400 Camino De La Placita, Taos, NM 87571. | Department of Public Works, 400 Camino De La Placita, Taos, NM 87571. | Dec. 13, 2019 | 350080
Oklahoma: Wagoner (FEMA Docket No.: B-1958). | City of Wagoner (18-06-3911P). | The Honorable Albert Jones, Mayor, City of Wagoner, 231 East Church Street, Wagoner, OK 74467. | City Hall, 231 East Church Street, Wagoner, OK 74467. | Dec. 19, 2019 | 400219
Texas:
Denton (FEMA Docket No.: B-1970). | City of Carrollton (19-06-1616X). | The Honorable Kevin Falconer, Mayor, City of Carrollton, P.O. Box 110535, Carrollton, TX 75011. | Engineering Department, 1945 East Jackson Road, Carrollton, TX 75006. | Dec. 23, 2019 | 480167
Denton (FEMA Docket No.: B-1970). | City of Lewisville (19-06-1616X). | The Honorable Rudy Durham, Mayor, City of Lewisville, P.O. Box 299002, Lewisville, TX 75029. | Engineering Division, 151 West Church Street, Lewisville, TX 75057. | Dec. 23, 2019 | 480195
Denton (FEMA Docket No.: B-1958). | Town of Flower Mound (19-06-0627P). | The Honorable Steve Dixon, Mayor, Town of Flower Mound, 2121 Cross Timbers Road, Flower Mound, TX 75028. | Town Hall, 2121 Cross Timbers Road, Flower Mound, TX 75028. | Dec. 17, 2019 | 480777
Denton (FEMA Docket No.: B-1967). | Town of Northlake (19-06-1881P). | The Honorable David Rettig, Mayor, Town of Northlake, 1500 Commons Circle, Suite 300, Northlake, TX 76226. | Public Works Department, 1400 FM 407, Northlake, TX 76247. | Dec. 23, 2019 | 480782
El Paso (FEMA Docket No.: B-1967). | City of El Paso (19-06-2306P). | Mr. Tommy Gonzalez, Manager, City of El Paso, 300 North Campbell Street, El Paso, TX 79901. | Land Development Department, 801 Texas Avenue, El Paso, TX 79901. | Dec. 23, 2019 | 480214
Gillespie (FEMA Docket No.: B-1958). | City of Fredericksburg (19-06-0111P). | The Honorable Linda Langerhans, Mayor, City of Fredericksburg, 126 West Main Street, Fredericksburg, TX 78624. | City Hall, 126 West Main Street, Fredericksburg, TX 78624. | Dec. 5, 2019 | 480252
Gillespie (FEMA Docket No.: B-1958). | Unincorporated areas of Gillespie County (19-06-0111P). | The Honorable Mark Stroeher, Gillespie County Judge, 101 West Main Street, Fredericksburg, TX 78624. | Gillespie County Courthouse, 101 West Main Street, Fredericksburg, TX 78624. | Dec. 5, 2019 | 480696
Guadalupe (FEMA Docket No.: B-1958). | City of Seguin (18-06-3667P). | The Honorable Don Keil, Mayor, City of Seguin, 205 North River Street, Seguin, TX 78155. | City Hall, 205 North River Street, Seguin, TX 78155. | Dec. 11, 2019 | 485508
Johnson (FEMA Docket No.: B-1958). | City of Joshua (19-06-1085P). | The Honorable Kenny Robinson, Mayor, City of Joshua, 101 South Main Street, Joshua, TX 76058. | City Hall, 101 South Main Street, Joshua, TX 76058. | Dec. 12, 2019 | 480882
Tarrant (FEMA Docket No.: B-1958). | City of Arlington (19-06-1806P). | The Honorable Jeff Williams, Mayor, City of Arlington, P.O. Box 90231, Arlington, TX 76004. | Public Works and Transportation Department, 101 West Abram Street, Arlington, TX 76010. | Dec. 12, 2019 | 485454
Tarrant (FEMA Docket No.: B-1958). | City of Fort Worth (19-06-1552P). | The Honorable Betsy Price, Mayor, City of Fort Worth, 200 Texas Street, Fort Worth, TX 76102. | Transportation and Public Works Department, 200 Texas Street, Fort Worth, TX 76102. | Dec. 5, 2019 | 480596
Tarrant (FEMA Docket No.: B-1967). | City of Fort Worth (19-06-2917P). | The Honorable Betsy Price, Mayor, City of Fort Worth, 200 Texas Street, Fort Worth, TX 76102. | Transportation and Public Works Department, 200 Texas Street, Fort Worth, TX 76102. | Dec. 23, 2019 | 480596

[FR Doc. 2020-00810 Filed 1-17-20; 8:45 am]

BILLING CODE 9110-12-P